DEPARTMENT OF ENERGY

Federal Energy Regulatory Commission

[Docket No. CP02-403-000]

Dominion Transmission, Inc.; Notice of Application

July 24, 2002.

Take notice that on July 10, 2002, Dominion Transmission, Inc. (Dominion), 445 West Main Street, Clarksburg, West Virginia, 26301, filed in Docket No. CP02-403-000 an application pursuant to Section 7(b) of the Natural Gas Act (NGA) for permission and approval to abandon its Storage Wells Nos. RN-2178 and RN-2189 of the Racket Newberne Storage Complex in Gilmer County, West Virginia, all as more fully set forth in the application.

All as more thoroughly described in the application on file with the Commission and open to public inspection. Copies of this application are on file with the Commission and are available for public inspection. This filing may also be viewed on the web at http://www.ferc.gov using the “Rims” link, select “Docket#” and follow the instructions (call 202-208-2222 for assistance).

Dominion states that the physical condition of the facilities proposed for abandonment have deteriorated to the extent that an expensive repair or abandonment is required. Dominion further states that it has determined that repairs would be uneconomic due to the poor performance of the wells and the use of the wells is unnecessary for the continued operation of the Racket Newberne Storage Complex.

Any questions regarding the application should be directed to Sean R. Sleigh, Certificates Manager, Dominion Transmission, Inc., 445 West Main Street, Clarksburg, West Virginia, 26301 at (304) 627-3462 or by fax at (304) 627-3305.

There are two ways to become involved in the Commission's review of this project. First, any person wishing to obtain legal status by becoming a party to the proceedings for this project should, on or before August 14, 2002, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest. However, the non-party commenters will not receive copies of all documents filed by other parties or issued by the Commission (except for the mailing of environmental documents issued by the Commission) and will not have the right to seek court review of the Commission's final order.

Comments, protests and interventions may be filed electronically via the Internet in lieu of paper. See, 18 CFR385.2001(a)(1)(iii) and the instructions on the Commission's web site under the “e-filing” link.

If the Commission decides to set the application for a formal hearing before an Administrative Law Judge, the Commission will issue another notice describing that process. At the end of the Commission's review process, a final Commission order approving or denying a certificate will be issued.

Linwood A. Watson, Jr.,
Deputy Secretary.

[FR Doc. 02-19201 Filed 7-30-02; 8:45 am]

BILLING CODE 6717-01-P